FEDERAL COMMUNICATIONS COMMISSION

Sunshine Act Meeting; Open Commission Meeting Thursday, October 12, 2006

October 5, 2006.

The Federal Communications Commission will hold an Open Meeting on the subjects listed below on Thursday, October 12, 2006, which is scheduled to commence at 9:30 a.m. in Room TW-C305, at 445 12th Street, SW., Washington, DC.

Item No. | Bureau | Subject
1 | Media | Title: Annual Assessment of the Status of Competition in the Market for the Delivery of Video Programming.
|  | Summary: The Commission will consider a Notice of Inquiry that seeks comments and information for the Thirteenth Annual Report on the status of competition in the market for the delivery of video programming.
2 | Wireless Telecommunications | Title: Qualcomm Incorporated Petition for Declaratory Ruling (WT Docket No. 05-7).
|  | Summary: The Commission will consider an Order concerning a request for declaratory ruling regarding the interference protection requirements applicable to the 700 MHz Band.
3 | Office of Engineering and Technology | Title: Unlicensed Operation in the TV Broadcast Bands (ET Docket No. 04-186).
|  | Summary: The Commission will consider a First Report and Order and Further Notice of Proposed Rule Making concerning new wireless operations in the TV broadcast bands.
4 | Wireline Competition | Title: AT&T Inc. and BellSouth Corporation Application for Transfer of Control (WC Docket No. 06-74).
|  | Summary: The Commission will consider a Memorandum Opinion and Order regarding the transfer of control application of AT&T and BellSouth.
5 | Wireline Competition | Title: Broadband Industry Practices.
|  | Summary: The Commission will consider a Notice of Inquiry regarding broadband industry practices.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services, call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. 06-8639 Filed 10-6-06; 2:18 pm]

BILLING CODE 6712-01-P